SMALL BUSINESS ADMINISTRATION

[Disaster Declaration #10964 and #10965]

Ohio Disaster #OH-00011

AGENCY: U.S. Small Business Administration.

ACTION: Notice.

SUMMARY: This is a notice of an Administrative declaration of a disaster for the State of OHIO dated August 14, 2007.

Incident: Severe Storms and Flooding.

Incident Period: August 7, 2007.

Effective Date: August 14, 2007.

Physical Loan Application Deadline Date: October 15, 2007.

Economic Injury (EIDL) Loan Application Deadline Date: May 14, 2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Cuyahoga.

Contiguous Counties:

Ohio: Geauga, Lake, Lorain, Medina, Portage, and Summit.

The Interest Rates are:

| Percent
Homeowners With Credit Available Elsewhere | 6.250
Homeowners Without Credit Available Elsewhere | 3.125
Businesses With Credit Available Elsewhere | 8.000
Businesses & Small Agricultural Cooperatives Without Credit Available Elsewhere | 4.000
Other (Including Non-Profit Organizations) With Credit Available Elsewhere | 5.250
Businesses And Non-Profit Organizations Without Credit Available Elsewhere | 4.000

The number assigned to this disaster for physical damage is 10964 6 and for economic injury is 10965 0.

The State which received an EIDL Declaration # is Ohio.

(Catalog of Federal Domestic Assistance Numbers 59002 and 59008)

Dated: August 14, 2007.
Steven C. Preston,
Administrator.

[FR Doc. E7-16350 Filed 8-20-07; 8:45 am]

BILLING CODE 8025-01-P